DEPARTMENT OF AGRICULTURE

Food and Nutrition Service

Agency Information Collection Activities: Proposed Collection; Comment Request—Supplemental Nutrition Assistance Program: State Issuance and Participation Estimates—Forms FNS-388 and FNS-388A

AGENCY: Food and Nutrition Service (FNS), USDA.

ACTION: Notice.

SUMMARY: In accordance with the Paperwork Reduction Act of 1995, the Food and Nutrition Service (FNS) is publishing for public comment a summary of a proposed information collection. This is a revision of a currently approved collection for the Supplemental Nutrition Assistance Program (SNAP) forms: FNS-388, State Issuance and Participation Estimates and FNS-388A, Project Area Data Format. FNS plans to update form FNS-388, to separately capture and differentiate Disaster Supplemental Nutrition Assistance Program (D-SNAP) benefit issuance and participation data from ongoing SNAP issuance and participation data. This form update will clearly distinguish D-SNAP data from ongoing SNAP data, thereby ensuring the speed and accuracy of FNS response to requests from multiple agencies on contributions to Federal disaster relief efforts. There are no changes to form FNS-388A.

DATES: Written comments must be received on or before November 12, 2013.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology.

Comments may be sent to Jane Duffield, Chief, State Administration Branch, Supplemental Nutrition Assistance Program, Food and Nutrition Service, U.S. Department of Agriculture, 3101 Park Center Drive, Room 818, Alexandria, VA 22302. Comments may also be submitted via email to SNAPSAB@fns.usda.gov. Comments will also be accepted through the federal eRulemaking Portal. Go to http://www.regulations.gov, and follow the online instructions for submitting comments electronically.

All responses to this notice will be summarized and included in the request for Office of Management and Budget approval. All comments will become a matter of public record.

FOR FURTHER INFORMATION CONTACT: Requests for additional information or copies of this information collection should be directed to Kelly Stewart at 703-305-2425.

SUPPLEMENTARY INFORMATION:

Title: State Issuance and Participation Estimates.

Form Number: FNS-388 and FNS-388A.

OMB Number: 0584-0081.

Expiration Date: July 31, 2016.

Type of Request: Revision of a currently approved collection.

Abstract: Section 18(b) of the Food and Nutrition Act, (the Act) 7 U.S.C. 2027(b), limits the value of allotments paid to SNAP households to an amount not in excess of the appropriation for the fiscal year. If allotments in any fiscal year would exceed the appropriation, the Secretary of Agriculture is required to direct State agencies to reduce the value of SNAP allotments to the extent necessary to stay within appropriated funding limits. Timely State monthly issuance estimates are necessary for FNS to ensure that it remains within the appropriation. The estimates will also have a direct effect upon the manner in which allotments would be reduced if necessary. While benefit reductions have never been ordered in the past under Section 18(b) nor are they anticipated based on current data, the Department must continue to monitor actual program costs against the appropriation.

Section 11(e)(12) of the Food and Nutrition Act, 7 U.S.C. 2020(e)(12), requires that the State Plan of Operations provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to monitor actual and estimated costs for all benefit types against the appropriation.

Disaster SNAP is authorized by sections 402 and 502 of the Robert T. Stafford Disaster Relief and Emergency Assistance Act (42 U.S.C. 5121 et seq.) and the temporary emergency provisions contained in Section 5 of the Food and Nutrition Act of 2008, and in 7 CFR Part 280 of the SNAP regulations. State agencies may request FNS approval to operate a Disaster SNAP in an area that has received a Presidential declaration as a Major Disaster area eligible for Individual Assistance. In accordance with 7 CFR 274.4, State agencies shall keep records and report SNAP participation and issuance totals to FNS.

FNS currently requires State agencies to report Disaster SNAP issuance and participation data using form FNS-292B Report of Disaster Supplemental Nutrition Assistance Program Benefit Issuance. Form FNS-292B must be submitted to the agency within 45 days of the termination of a Disaster SNAP operation and captures final issuance and participation data. The information collection burden for the FNS-292B is included in OMB 0584-0037, expiration date July 31, 2014.

States operating D-SNAP may also use the “remarks” section of the current FNS-388 form to indicate issuance and participation data, however this is not required and is currently not reported consistently or in a uniform manner that allows FNS to readily access this information. However, recent evaluation of Federal disaster response efforts has identified a critical need for timely periodic reporting while a disaster response is ongoing. Disaster response updates are frequently requested by the Secretary of Agriculture, the Federal Emergency Management Agency, the White House and Congress during an ongoing relief effort. Updating the FNS-388, to include separate reporting of D-SNAP benefit issuance and participation will improve data accountability and ensure data is available on a monthly basis for timely response to Federal, State and other inquiries. Requiring monthly D-SNAP data on the FNS-388, will not duplicate any data collection currently in place, as the FNS-292B, serves as a final summary and closeout of the disaster response period and is not meant to provide periodic updates.

Revisions to the FNS-388, are not yet finalized, however the following updates are projected:

• Addition of data elements “D-SNAP (New Households)” and “Disaster Supplements (Ongoing SNAP Households)” in the Issuance section. “Current Month” data will not be required for these elements.

• Addition of data elements “D-SNAP (New Participants)” and “Disaster Supplements (Ongoing SNAP Participants)” in the Participants section. “Current Month” data will not be required for these elements.

• Addition of data elements “D-SNAP (New Households)” and “Disaster Supplements (Ongoing SNAP Households)” in the Households section. “Current Month” data will not be required for these elements.

The update to form FNS-388, is occurring in coordination with an update to form FNS-46, Issuance Reconciliation Report (OMB 0584-0080, expiration date March 31, 2014) to incorporate separate D-SNAP benefit issuance data points that mirror those collected on the FNS-388. The alignment of these two forms will ensure that the monthly D-SNAP benefit issuance data collected on the FNS-388, will have associated and corresponding final issuance reconciliations on the FNS-46.

State agencies in general only submit one statewide FNS-388 per month, which covers benefits from their Electronic Benefit Transfer (EBT) system. The exception is State agencies which choose to operate an approved alternative issuance demonstration project such as a cash-out system submit a separate report for each additional type of issuance system. The addition of D-SNAP estimates on FNS-388, will not impact the frequency of response or recordkeeping, but the update will minimally increase the burden associated with completing the form. As there are an average of six disasters requiring D-SNAP issuance each year, this change will not impact all States in all months. As a result of these program changes, FNS estimates the burden hours associated with completing the FNS-388, will increase by 30 minutes for each State responding to a disaster (estimated at 6). This will increase the time per response from 5.6 to an average of 5.65 per month ([(5.6*47) + (6*6)]/53) thereby increasing the total reporting burden hours for the FNS-388 to 3,389.8.

In addition, State agencies are required to submit a project area breakdown on the FNS-388, of issuance and participation data twice a year. The project area breakdown attached to the FNS-388, twice a year is known as the FNS-388A. This data is useful in identifying project areas that operate fraud detection units in accordance with the Act. The information provided on FNS-388A, will not change and the burden associated with this form remains as is.

As of August 2013, 100 percent of respondents submitted the FNS-388 and FNS-388A data electronically.

Affected Public: State agencies that administer SNAP.

Estimated Number of Respondents: 53.

Estimated Number of Responses per Respondent: 27.17.

Estimated Hours per Response: 3.602.

Estimated Total Annual Responses: 1,440.

Estimated Total Annual Burden on Respondents: The current burden inventory for this collection is 5,157. This revised annual reporting and recordkeeping burden for OMB No. 0584-0081, is estimated to be 5,186.6 hours. For the FNS-388, the response time has increased slightly from an estimated 5.6 hours per month to 5.71. This results in a burden increase of 29.6 hours annually. See the table below for estimated total annual burden for each type of respondent.

Affected public | Forms | Number of respondents | Frequency of response | Total annual responses | Time per response (hrs) | Annual burden hours
State Agencies | FNS-388 | 53 | 11.32 | 600 | 5.65 | 3,389.8
| FNS-388A | 53 | 2.26 | 120 | 14.83 | 1,779.6
Reporting Burden |  | 53 |  | 720 |  | 5,169.4

Affected public | Forms | Number of record-keepers | Frequency of response | Total annual records | Time per response (hrs) | Annual recordkeeping hours
State Agencies | FNS-388 | 53 | 11.32 | 600 | .024 | 14.4
| FNS-388A | 53 | 2.26 | 120 | .024 | 2.88
Record-keeping Burden |  | 53 |  | 720 |  | 17.28
Grand Total |  | 53 | 27.170 | 1,440 | 3.602 | 5,186.6

Dated: September 5, 2013.
Audrey Rowe,
Administrator, Food and Nutrition Service.

[FR Doc. 2013-22253 Filed 9-12-13; 8:45 am]

BILLING CODE 3410-30-P